DEPARTMENT OF AGRICULTURE

Agricultural Marketing Service

7 CFR Part 47

[Docket No. FV00-363]

Amendments to Rules of Practice Under the Perishable Agricultural Commodities Act (PACA); Correction

AGENCY: Agricultural Marketing Service, USDA.

ACTION: Final rule; correction.

SUMMARY: The Department of Agriculture (USDA) published in the Federal Register on July 15, 1999, a final rule that amended the Rules of Practice under the Perishable Agriculture Commodities Act. This document corrects the amount of time allowed for filing a petition to reopen after default.

EFFECTIVE DATE: August 16, 1999.

FOR FURTHER INFORMATION CONTACT: Charles W. Parrott, Acting Chief, PACA Branch, Room 2095-So. Bldg., Fruit and Vegetable Division, AMS, USDA, Washington, D.C. 20250, Phone (202) 720-4180, Email—charles.parrott@usda.gov.

SUPPLEMENTARY INFORMATION:

Background

The Department of Agriculture (Department) published a final rule in the Federal Register on July 15, 1999 (64 FR 38103), that amended several sections of the Rules of Practice to comply with the PACA Amendments of 1995, and made numerous other changes to enhance customer service.

Need for Correction

As published, the final regulations contain an error that may prove to be misleading and need to be clarified. The 30-day time period for filing a petition to reopen after default is in conflict with the statute and is being corrected to show a 20-day time period in order to remain consistent with the 20-day time period for filing a petition for reconsideration of an order.

List of Subjects in 7 CFR Part 47

Administrative practice and procedure, Agricultural commodities, Brokers

Accordingly, 7 CFR part 47 is corrected by making the following correcting amendment:

PART 47—[CORRECTED]

1. The authority citation for part 47 continues to read as follows:

Authority: 7 U.S.C. 499o; 7 C.F.R. 2.22(a)(1)(viii)(L), 2.79(a)(8)(xiii).

2. Revise paragraph (d) of § 47.24 to read as follows:

§ 47.24 Rehearing, reargument, reconsideration of orders, reopening of hearings, reopening after default.

* * * * *

(d) Reopening after default. The party in default in the filing of an answer or reply required or authorized under this part may petition to reopen the proceeding at any time prior to the expiration of 20 days from the date of service of the default order. If, in the judgment of the examiner, after notice to and consideration of the views of the other party(ies), there is good reason for granting such relief, the party in default will be allowed 20 days from the date of the order reopening the proceeding to file an answer.

Dated: May 4, 2000.
Robert C. Keeney,
Deputy Administrator, Fruit and Vegetable Programs.

[FR Doc. 00-11641 Filed 5-9-00; 8:45 am]

BILLING CODE 3410-02-P